DEPARTMENT OF HOMELAND SECURITY

Coast Guard

33 CFR Part 117

[Docket No. USCG-2017-0621]

Drawbridge Operation Regulation; Willamette River at Portland, OR

AGENCY: Coast Guard, DHS.

ACTION: Notice of deviation from drawbridge regulation.

SUMMARY: The Coast Guard has issued a temporary deviation from the operating schedule that governs the Hawthorne Bridge, mile 13.1, crossing the Willamette River at Portland, OR. This deviation is necessary to accommodate the Oregon Brewers' Parade event. The deviation allows the bridge to remain in the closed-to-navigation position to allow safe roadway movement of event participants.

DATES: This deviation is effective from 11:30 a.m. to noon on July 26, 2017.

ADDRESSES: The docket for this deviation, USCG-2017-0621 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Multnomah County (bridge owner) has requested a temporary deviation from the operating schedule for the Hawthorne Bridge, mile 13.1 crossing the Willamette River at Portland, OR. The requested deviation is to accommodate the Oregon Brewers' Parade event. To facilitate this event, the draw of this bridge will be allowed to be kept in the closed-to-navigation position to marine traffic from 11:30 a.m. to noon on July 26, 2017. The Hawthorne Bridge provides a vertical clearance of 49 feet in the closed-to-navigation position referenced to the vertical clearance above Columbia River Datum 0.0. The normal operating schedule is in 33 CFR 117.897(c)(3)(v). Waterway usage on this part of the Willamette River includes vessels ranging from commercial tug and barge to small pleasure craft. The Coast Guard provided notice of and requested objections to this deviation to local mariners via the Local Notice Mariners, and email. No objections were submitted to the Coast Guard.

Vessels able to pass through the bridge in the closed-to-navigation position may do so at any time. The bridge will be able to open for emergencies, and there is no immediate alternate route for vessels to pass. The Coast Guard will inform the users of the waterway, through our Local and Broadcast Notices to Mariners, of the change in operating schedule for the bridges so that vessels can arrange their transits to minimize any impact caused by the temporary deviation.

In accordance with 33 CFR 117.35(e), the drawbridge must return to its regular operating schedules immediately at the end of the effective period of this temporary deviation. This deviation from the operating regulations is authorized under 33 CFR 117.35.

Dated: June 30, 2017.
Steven M. Fischer,
Bridge Administrator, Thirteenth Coast Guard District.

[FR Doc. 2017-14458 Filed 7-10-17; 8:45 am]

BILLING CODE 9110-04-P